COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes product(s) and service(s) from the Procurement List that were furnished by nonprofit agencies employing persons who are blind or have other severe disabilities.

DATES: Date deleted from the Procurement List: June 15, 2025.

ADDRESSES: Committee for Purchase From People Who Are Blind or Severely Disabled, 355 E Street SW, Suite 325, Washington, DC 20024.

FOR FURTHER INFORMATION CONTACT: Michael R. Jurkowski, Telephone: (703) 489-1322, or email CMTEFedReg@AbilityOne.gov.

SUPPLEMENTARY INFORMATION:

Deletions

On 4/11/2025 (90 FR 15456), the Committee for Purchase From People Who Are Blind or Severely Disabled published notice of proposed deletions from the Procurement List. This notice is published pursuant to 41 U.S.C. 8503(a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

7930-01-490-7301—Detergent, Laundry, Biobased with Bleach, Powder

Authorized Source of Supply: Goodwill Vision Enterprises, Rochester, NY

Contracting Activity: GSA/FSS GREATER SOUTHWEST ACQUISITI, FORT WORTH, TX

NSN(s)—Product Name(s):

6850-01-598-1926—Ice Melt/De-Icer, 20 lbs.

Authorized Source of Supply: BOSMA Enterprises, Indianapolis, IN

Contracting Activity: DLA AVIATION, RICHMOND, VA

NSN(s)—Product Name(s):

8470-01-531-3351—Chin Strap w/o Hardware, ACH, Foliage Green

Authorized Source of Supply: Lions Services, Inc., Charlotte, NC

Contracting Activity: DLA TROOP SUPPORT, PHILADELPHIA, PA

NSN(s)—Product Name(s):

MR 604—Drinking Straws, Flexible, Clear, 180ct

MR 821—Pepper Saver

MR 832—Tomato Saver Shippers

MR 839—Saver, Garlic

MR 10652—Saver, Lime

MR 10660—Container, Apples and Dip To Go, Includes Shipper 20660

MR 10703—Berries To Go, Blueberry, Includes Shipper 20730

MR 10704—Berries To Go, Raspberry, Includes Shipper 20730

MR 10730—Basket, Fruit Saver, Includes Shipper 20730

MR 10743—Saver, Cheese, Includes Shipper 20743

MR 10839—Shipper, Saver, Garlic

MR 1603—Striped Flex Straws

MR 11087—Bowl, Collapsible, Pet

MR 11089—Blanket, Pet, Small

MR 11090—Disc, Toy, Dog

MR 11100—Server, Gravy and Sauce, Includes Shipper 21100

MR 10833—Foldout Tool Flashlight, Includes Shipper 20833

MR 10836—Barbecue Grill Mat, Includes Shipper 20836

MR 10840—Disney Marvel Toys, Includes Shipper 20840

MR 10852—Water Toy Tower, Includes Shipper 20852

MR 10860—Mosquito Repellent Spray, Includes Shipper 20860

MR 10861—Soap Dispensing Sponge Holder, Includes Shipper 20861

MR 10825—Emergency Triangle Work Light, Includes Shipper 20825

MR 10826—Cordless Work Light, Includes Shipper 20826

MR 10828—Container, Olive Keeper, Includes Shipper 20828

MR 10829—Container, Grapes To Go, Includes Shipper 20829

MR 10830—Leakproof Baking Mat, Includes Shipper 20830

MR 10831—Container, Carrot and Dip To Go, Includes Shipper 20831

MR 10816—Marvel Toys, Includes Shipper 20816

MR 10817—Worklight, Includes Shipper 20817

MR 10818—Pig Out Car Go Container, Includes Shipper 20818

MR 10819—Celery & Dip to Go, Includes Shipper 20819

MR 10820—Mushroom Saver, Includes Shipper 20820

MR 10822—Popcorn Saver, Includes Shipper 20822

MR 10823—Popcorn Saver, Includes Shipper 20822

MR 10808—Ice Cream Bowl, Includes Shipper 20808

MR 10809—Onion Saver, Includes Shipper 20809

MR 10810—Snack Bowl, Includes Shipper 20810

MR 10813—Prep Bowl, 3 Piece, Includes Shipper 20813

MR 10814—Ice Ball Tray, Includes Shipper 20814

MR 10815—Meat Baller, Includes Shipper 20815

MR 10795—Party Popper Cake Topper, Includes Shipper 20795

MR 10797—Flashlight, Includes Shipper 20797

MR 11509—Pet Collar

MR 10798—Headlamp, Includes Shipper 20798

MR 10799—Egg Scrambler, Includes Shipper 20799

MR 10806—Cutting Board, Includes Shipper 20806

MR 10807—Pantry Basket, Includes Shipper 20807

MR 10788—Super Sifter, Includes Shipper 20788

MR 10789—Pizza Slicer and Server, Includes Shipper 20789

MR 10796—Dish Rack, Compact, Includes Shipper 20796

MR 10791—Pot Lid Stand, Includes Shipper 20791

MR 10792—Twin Juicer, Includes Shipper 20792

MR 10793—Refrigerator Freshener, Includes Shipper 20793

MR 10794—Mini Garden Colander, Includes Shipper 20794

Authorized Source of Supply: Winston-Salem Industries for the Blind, Inc, Winston-Salem, NC

Contracting Activity: Military Resale-Defense Commissary Agency

Service(s)

Service Type: Janitorial/Grounds Maintenance

Mandatory for: Department of Veterans Affairs, VA Regional Office Building, Montgomery, AL

Authorized Source of Supply: Global Connections to Employment, Inc., Pensacola, FL

Contracting Activity: VETERANS AFFAIRS, DEPARTMENT OF, VBA FIELD CONTRACTING (0010E)

Service Type: Grounds Maintenance Service

Mandatory for: US Coast Guard Station Atlantic City, Atlantic City, NJ

Authorized Source of Supply: Fedcap Rehabilitation Services, Inc., New York, NY

Contracting Activity: U.S. COAST GUARD, TRACEN CAPE MAY(00042)

Service Type: Administrative Service

Mandatory for: Department of Veterans Affairs, Birmingham VA Medical Center, Birmingham, AL

Authorized Source of Supply: Alabama Goodwill Industries, Inc., Birmingham, AL

Contracting Activity: VETERANS AFFAIRS, DEPARTMENT OF, 247-NETWORK CONTRACT OFC 7(00247)

Service Type: Shelf Stocking & Custodial

Mandatory for: Forest Glen Commissary, 6900 Georgia Avenue NW, Washington, DC

Contracting Activity: DEFENSE COMMISSARY AGENCY (DECA), DEFENSE COMMISSARY AGENCY

Michael R. Jurkowski,
Director, Business Operations.

[FR Doc. 2025-08756 Filed 5-15-25; 8:45 am]

BILLING CODE 6353-01-P